NATIONAL CREDIT UNION ADMINISTRATION

Sunshine Act: Notice of Agency Meeting

TIME AND DATE: 3:00 p.m., Wednesday, November 18, 2015.

PLACE: Board Room, 7th Floor, Room 7047, 1775 Duke Street, Alexandria, VA 22314-3428.

STATUS: Closed.

MATTERS TO BE CONSIDERED: 1. Proposed Credit Union/Bank Merger. Closed pursuant to Exemption (8).

RECESS: 3:30 p.m.

TIME AND DATE: 10:00 a.m., Thursday, November 19, 2015.

PLACE: Board Room, 7th Floor, Room 7047, 1775 Duke Street (All visitors must use Diagonal Road Entrance), Alexandria, VA 22314-3428.

STATUS: Open.

MATTERS TO BE CONSIDERED: 1. Corporate Stabilization Fund Quarterly Report.

2. 2016/2017 Annual Performance Plan.

3. NCUA Rules and Regulations, Chartering and Fields of Membership.

4. NCUA's 2016/2017 Operating Budget and 2016/2017 Corporate Stabilization Fund Oversight Budget.

5. 2016 Overhead Transfer Rate.

6. 2016 Operating Fee Assessment Scale.

FOR FURTHER INFORMATION CONTACT: Gerard Poliquin, Secretary of the Board, Telephone: 703-518-6304.

Gerard Poliquin,
Secretary of the Board.

[FR Doc. 2015-29187 Filed 11-10-15; 4:15 pm]

BILLING CODE 7535-01-P